DEPARTMENT OF COMMERCE

National Oceanic and Atmospheric Administration

RIN 0648-XF704

Western Pacific Fishery Management Council; Public Meetings; Correction

AGENCY: National Marine Fisheries Service (NMFS), National Oceanic and Atmospheric Administration (NOAA), Commerce.

ACTION: Notice of time change of a public hearing.

SUMMARY: The Western Pacific Fishery Management Council (Council) will hold its 171st Council meeting to take actions on fishery management issues in the Western Pacific Region.

DATES: The Council meeting will be held on October 17 to October 19, 2017.

ADDRESSES: The 171st Council meeting will be held at Governor H. Rex Lee Auditorium (Fale Laumei), Utulei, American Samoa, phone: (684) 633-5155.

FOR FURTHER INFORMATION CONTACT: Kitty M. Simonds, Executive Director, Western Pacific Fishery Management Council; phone: (808) 522-8220.

SUPPLEMENTARY INFORMATION: The original notice published in the Federal Register on September 22, 2017 (82 FR 44382). The Public Hearing on American Samoa Fisheries originally scheduled on Tuesday, October 17, 2017, from 6 p.m. to 8 p.m. has changed to Tuesday, October 17, 2017, from 7:30 p.m. to 9 p.m.

The 171st Council Meeting will be held on October 17, 2017 between 1 p.m. and 5 p.m. with a Public Hearing between 7:30 p.m. and 9 p.m.; on October 18, 2017 between 8:30 a.m. and 5 p.m. with a Fishers Forum between 6 p.m. and 9 p.m.; and on October 19, 2017 between 8:30 p.m. and 3 p.m.

Agenda items noted as “Final Action Items” refer to actions that result in Council transmittal of a proposed fishery management plan, proposed plan amendment, or proposed regulations to the U.S. Secretary of Commerce, under Sections 304 or 305 of the Magnuson-Stevens Fishery Conservation and Management Act. An opportunity to submit public comment will be provided throughout the agendas. The order in which agenda items are addressed may change and will be announced in advance at the Council meeting. The meetings will run as late as necessary to complete scheduled business. Background documents will be available from, and written comments should be sent to, Kitty M. Simonds, Executive Director; Western Pacific Fishery Management Council, 1164 Bishop Street, Suite 1400, Honolulu, HI 96813, phone: (808) 522-8220 or fax: (808) 522-8226.

Non-emergency issues not contained in this agenda may come before the Council for discussion and formal Council action during its 171st meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: October 3, 2017.
Tracey L. Thompson,
Acting Deputy Director, Office of Sustainable Fisheries, National Marine Fisheries Service.

[FR Doc. 2017-21597 Filed 10-5-17; 8:45 am]

BILLING CODE 3510-22-P